DEPARTMENT OF HOMELAND SECURITY

Coast Guard

[USCG-2007-27752]

Towing Safety Advisory Committee

AGENCY: Coast Guard, DHS.

ACTION: Notice of meetings.

SUMMARY: The Towing Safety Advisory Committee (TSAC) and its working groups will meet as required to discuss various issues relating to shallow-draft inland and coastal waterway navigation and towing safety. All meetings will be open to the public.

DATES: The working groups will meet on Tuesday, April 24, from 9 a.m. to 5 p.m. TSAC will meet on, Wednesday, April 25, from 8 a.m. to 3 p.m. These meetings may close early if all business is finished. Written material for and requests to make oral presentations at the meetings should reach the Coast Guard on or before April 13, 2007. Requests to have a copy of your material distributed to each member of the Committee or working groups prior to the meetings should reach the Coast Guard on or before April 13, 2007.

ADDRESSES: TSAC will meet in the Newberry Auditorium of the Calhoon MEBA Engineering School; 27050 Saint Michaels Road; Easton, MD 21601. Accommodations for the public are available in the nearby town of Easton, MD. Visit the school's Web site at http://www.mebaschool.org/ for maps and directions. Send written material and requests to make oral presentations to the Committee's Assistant Executive Director in the FOR FURTHER INFORMATION CONTACT section below. This notice and related documents are available on the Internet at http://dms.dot.gov under the docket number USCG-2007-27752.

FOR FURTHER INFORMATION CONTACT: Mr. Gerald P. Miante, Assistant Executive Director, TSAC; U.S. Coast Guard Headquarters, CG-3PSO-1, Room 1210; 2100 Second Street SW., Washington, DC 20593-0001. Telephone (202) 372-1401, fax (202) 372-1926, or e-mail at: Gerald.P.Miante@uscg.mil.

SUPPLEMENTARY INFORMATION: Notice of these meetings is given under the Federal Advisory Committee Act, 5 U.S.C. App. 2 (Pub. L. 92-463, 86 Stat. 770, as amended).

Agenda of Committee Meeting

The agenda tentatively includes the following items:

(1) Comprehensive Report of the Towing Vessel Inspection Working Group;

(2) Status Report of the Licensing Implementation Working Group: an Approved Model Training Program for Wheelhouse Personnel;

(3) Update from the Working Group on Lessons Learned from the Review of the AV KASTNER/BUCHANAN 14/SWIFT Collision and the MV WALLY ROLLER Incident;

(4) Report on the Merchant Mariner Credential (MMC) Rulemaking;

(5) Report on the STCW Rulemaking;

(6) Update on Training and Service Requirements for Merchant Marine Officers;

(7) Request for Info re: Use of Weather Fax and USCG HF Voice Broadcast;

(8) Update on a Legislative Change Proposal (LCP) and the Medical Navigation and Vessel Inspection Circular (NVIC);

(9) Update on the National Maritime Center (NMC) Restructuring/Centralization;

(10) Presentation on DHS National Small-Vessel Security Summit;

(11) Report of the Working Group on Voyage Planning; and

(12) Update on Commercial/Recreational Boating Interface.

Procedural

All meetings are open to the public. Please note that the meetings may close early if all business is finished. Members of the public may make oral presentations during the meetings. If you would like to make an oral presentation at a meeting, please notify the Assistant Executive Director no later than April 13, 2007. Written material for distribution at a meeting should reach the Coast Guard no later than April 13, 2007. If you would like a copy of your material distributed to each member of the Committee or Working Groups in advance of a meeting, please submit 20 copies to the Assistant Executive Director no later than April 9, 2007. You may also submit this material electronically to the e-mail address in FOR FURTHER INFORMATION CONTACT no later than April 13, 2007. Also, at the Chair's discretion, members of the public may present comment at the end of the Public Meeting. Please understand that the Committee's schedule may be quite demanding and time for public comment may be limited.

Information on Services for Individuals With Disabilities

For information on facilities or services for individuals with disabilities or to request special assistance at the meetings, contact the Assistant Executive Director as soon as possible.

Dated: March 29, 2007.
J.G. Lantz,
Director of National and International Standards, Assistant Commandant for Prevention.

[FR Doc. E7-6304 Filed 4-4-07; 8:45 am]

BILLING CODE 4910-15-P